DEPARTMENT OF HEALTH AND HUMAN SERVICES

Health Resources and Services Administration

CDC/HRSA Advisory Committee on HIV, Viral Hepatitis and STD Prevention and Treatment

AGENCY: Health Resources and Services Administration, Department of Health and Human Services (HHS).

ACTION: Notice of meeting.

SUMMARY: In accordance with the Federal Advisory Committee Act, notice is hereby given that a meeting is scheduled for the Centers for Disease Control and Prevention (CDC)/Health Resources and Services Administration (HRSA) Advisory Committee on HIV, Viral Hepatitis and STD Prevention and Treatment. This meeting will be open to the public. Information about the CDC/HRSA Advisory Committee on HIV, Viral Hepatitis and STD Prevention and Treatment and the meeting agenda can be obtained by contacting CDR Holly Berilla at (301) 443-9965 or hberilla@hrsa.gov.

DATES: The meeting will be held on March 30, 2017, from 2:00 p.m. to 3:00 p.m. (Eastern).

ADDRESSES: The meeting will be held virtually with telephone access that will accommodate up to 100 attendees and is open to the public. Parties may access the teleconference by dialing 888-566-6570 and using participant code: 1682061. Participants should call and connect 15 minutes prior to the start of the meeting.

FOR FURTHER INFORMATION CONTACT: Anyone requesting information regarding the CDC/HRSA Advisory Committee on HIV, Viral Hepatitis and STD Prevention and Treatment should contact CDR Holly Berilla, Public Health Analyst, HRSA, HIV/AIDS Bureau (HAB), Division of Policy and Data (DPD), in one of three ways: (1) Send a request to the following address: CDR Holly Berilla, Public Health Analyst, HRSA, HAB, DPD, 5600 Fishers Lane, Rockville, Maryland 20857; (2) call 301-443-9965; or (3) send an email to hberilla@hrsa.gov.

SUPPLEMENTARY INFORMATION: The CDC/HRSA Advisory Committee on HIV, Viral Hepatitis and STD Prevention and Treatment was established under Section 222 of the Public Health Service Act (42 U.S.C. Section 217a), as amended.

The purpose of the CDC/HRSA Advisory Committee on HIV, Viral Hepatitis and STD Prevention and Treatment is to advise the Secretary of HHS, the Director of CDC, and the Administrator of HRSA regarding objectives, strategies, policies, and priorities for HIV, viral hepatitis, and other STDs; prevention and treatment efforts including surveillance of HIV infection, AIDS, viral hepatitis, and other STDs, and related behaviors; epidemiologic, behavioral, health services, and laboratory research on HIV/AIDS, viral hepatitis, and other STDs; identification of policy issues related to HIV/viral hepatitis/STD professional eduction, patient healthcare delivery, and prevention services; HHS policies about prevention of HIV/AIDS, viral hepatitis and other STDs; treatment, healthcare delivery, and research and training; strategic issues influencing the ability of CDC and HRSA to fulfill their missions of providing prevention and treatment services; programmatic efforts to prevent and treat HIV, viral hepatitis, and other STDs; and support to CDC and HRSA in their developoment of responses to emerging health needs related to HIV, viral hepatitis, and other STDs.

During the March 30, 2017 meeting, the CDC/HRSA Advisory Committee on HIV, Viral Hepatitis and STD Prevention and Treatment will deliberate and vote on a proposed resolution regarding the HIV workforce, a proposal to expand the existing HCV (hepatitis C virus) Workgroup, and a proposal to develop an HIV Disparities Workgroup. Agenda items are subject to change as priorities dictate.

Due to the nature and time limitations of the meeting, members of the public will not have an opportunity to provide oral comments. Individuals who need reasonable accommodations should notify CDR Holly Berilla at hberilla@hrsa.gov at least 10 days prior to the meeting.

Jason E. Bennett,
Director, Division of the Executive Secretariat.

[FR Doc. 2017-04742 Filed 3-9-17; 8:45 am]

BILLING CODE 4165-15-P